DEPARTMENT OF HEALTH AND HUMAN SERVICES

Health Resources and Services Administration

Agency Information Collection Activities: Proposed Collection: Comment Request

ACTION: Notice.

SUMMARY: In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Medicare Rural Hospital Flexibility Grant Program Performance Measure Determination (OMB No. 0915-xxxx) − New

Abstract: The purpose of the Medicare Rural Hospital Flexibility Program (Flex), authorized by Section 4201 of the Balanced Budget Act of 1997 (BBA), Public Law 105-33, and reauthorized by Section 121 of the Medicare Improvements for Patients and Providers Act of 2008, Public Law 110−275, is to support improvements in the quality of health care provided in communities served by Critical Access Hospitals (CAHs); to support efforts to improve the financial and operational performance of the CAHs; and to support communities in developing collaborative regional and local delivery systems. Additionally the Flex program assists in the conversion of qualified small rural hospitals to CAH status. The provision and delivery of quality health care to rural America is a priority of the Department of Health and Human Services (HHS). The Flex program provides funding for states to support technical assistance activities in hospitals related to: improving health care quality, patient safety, hospital financial and operational efficiency, and care coordination; and ensuring adequate training and support within rural Emergency Medical Services systems. Measures and goals identified in the Flex program take into consideration existing measures and priorities HHS has set for hospitals to avoid both conflict and duplication of efforts.

For this program, performance measures were drafted to provide data useful to the Flex program and to enable HRSA to provide aggregate program data required by Congress under the Government Performance and Results Act (GPRA) of 1993 (Public Law 103-62). These measures cover principal topic areas of interest to the Office of Rural Health Policy, including: (a) Quality reporting; (b) quality improvement interventions; (c) financial and operational improvement initiatives; and (d) multi-hospital patient safety initiatives. Several measures will be used for this program and will inform the office's progress toward meeting the goals set in GPRA.

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

The annual estimate of burden is as follows:

Form Name | Number of respondents | Number of responses per respondent | Total responses | Average burden per response (in hours) | Total burden hours
Medicare Rural Hospital Flexibility Grant Program | 45 | 1 | 45 | 6 | 270
Total | 45 | 1 | 45 | 6 | 270

ADDRESSES: Submit your comments to paperwork@hrsa.gov or mail the HRSA Reports Clearance Officer, Room 10-29, Parklawn Building, 5600 Fishers Lane, Rockville, MD 20857.

Deadline: Comments on this Information Collection Request must be received within 60 days of this notice.

Dated: December 20, 2012.
Bahar Niakan,
Director, Division of Policy and Information Coordination.

[FR Doc. 2012-31399 Filed 12-28-12; 8:45 am]

BILLING CODE P